UNITED STATES INSTITUTE OF PEACE

Notice of Meeting

Date/Time: Thursday, September 20, 2007, 9:30 a.m.-3:30 p.m.

Location: 1200 17th Street, NW., Suite 200, Washington, DC 20036-3011.

Status: Open Session—Portions may be closed pursuant to Subsection (c) of Section 552(b) of Title 5, United States Code, as provided in subsection 1706(h)(3) of the United States Institute of Peace Act, Public Law 98-525.

Agenda: September 20, 2007 Board Meeting; Approval of Minutes of the One Hundred Twenty-Seventh Meeting (June 13-14, 2007) of the Board of Director; Chairman's Report; President's Report; Budget Discussion; Consideration of Grant Recommendations; Other General Issues.

Contact: Tessie F. Higgs, Executive Office, Telephone: (202) 429-3836.

Dated: September 5, 2007.
Patricia P. Thomson,
Executive Vice President, United States Institute of Peace.

[FR Doc. 07-4449 Filed 9-6-07; 3:49 pm]

BILLING CODE 6820-AR-M